DEPARTMENT OF COMMERCE

International Trade Administration

[A-201-834, A-401-808]

Purified Carboxymethylcellulose From Mexico and Sweden: Revocation of Antidumping Duty Orders

AGENCY: Import Administration, International Trade Administration, Department of Commerce.

SUMMARY: On June 2, 2010, the Department of Commerce initiated sunset reviews of the antidumping duty orders on purified carboxymethylcellulose from Mexico and Sweden. Pursuant to section 751(c) of the Tariff Act of 1930, as amended, the U.S. International Trade Commission determined that revocation of the existing antidumping duty orders on purified carboxymethylcellulose from Mexico and Sweden would not be likely to lead to continuation or recurrence of material injury to an industry in the United States within a reasonably foreseeable time. Therefore, pursuant to section 751(d)(2) of the Tariff Act of 1930, as amended, and 19 CFR 351.222(i)(1)(iii), the Department is revoking the antidumping duty orders on purified carboxymethylcellulose from Mexico and Sweden.

DATES: Effective Date: July 11, 2010.

FOR FURTHER INFORMATION CONTACT: Dena Crossland or Angelica Mendoza, AD/CVD Operations Office 7, Import Administration, International Trade Administration, U.S. Department of Commerce, 14th Street and Constitution Avenue, NW., Washington, DC 20230; telephone: (202) 482-3362 and (202) 482-3019, respectively.

SUPPLEMENTARY INFORMATION:

Background

On July 11, 2005, the Department of Commerce (the Department) published the antidumping duty orders on purified carboxymethylcellulose (purified CMC) from Mexico and Sweden. See Notice of Antidumping Duty Orders: Purified Carboxymethylcellulose from Finland, Mexico, the Netherlands and Sweden, 70 FR 39734 (July 11, 2005). On June 2, 2010, the Department initiated its five-year sunset reviews of the antidumping duty orders on purified CMC from Mexico and Sweden. See Initiation of Five-Year (“Sunset”) Review, 75 FR 30777 (June 2, 2010).

As a result of these sunset reviews, the Department determined that revocation of the antidumping duty orders on purified CMC from Mexico and Sweden would be likely to lead to the continuation or recurrence of dumping. See Purified Carboxymethylcellulose From Finland, the Netherlands, and Sweden: Final Results of the Expedited First Sunset Reviews of the Antidumping Duty Orders, 75 FR 61700 (October 6, 2010), and Purified Carboxymethylcellulose From Mexico: Final Results of the First Five-Year (“Sunset”) Review of Antidumping Duty Order, 76 FR 4865 (January 27, 2011). The Department notified the U.S. International Trade Commission (ITC) of the magnitude of the margins likely to prevail should the antidumping duty orders be revoked.

On May 12, 2011, the ITC published its determination that, pursuant to section 751(c) of the Tariff Act of 1930, as amended (the Act), revocation of the antidumping duty orders on purified CMC from Mexico and Sweden would not be likely to lead to continuation or recurrence of material injury to an industry in the United States within a reasonably foreseeable time. See Purified Carboxymethylcellulose from Finland, Mexico, Netherlands and Sweden, 76 FR 27663 (May 12, 2011), and USITC Publication 4225 (May 2011), titled Purified Carboxymethylcellulose from Finland, Mexico, Netherlands and Sweden (Investigation Nos. 731-TA-1084-1087 (Review)).

Scope of the Orders

The merchandise covered by the orders is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations, which, at a minimum, reduce the remaining salt and other by-product portion of the product to less than ten percent. The merchandise subject to the orders is currently classified in the Harmonized Tariff Schedule of the United States at subheading 3912.31.00. This tariff classification is provided for convenience and customs purposes; however, the written description of the scope of the orders is dispositive.

Determination

As a result of the determination by the ITC that revocation of the antidumping duty orders is not likely to lead to the continuation or recurrence of material injury to an industry in the United States, the Department, pursuant to section 751(d) of the Act, is revoking the antidumping duty orders on purified CMC from Mexico and Sweden. Pursuant to section 751(d)(2) of the Act and 19 CFR 351.222(i)(2)(i), the effective date of revocation is July 11, 2010 (i.e., the fifth anniversary of the publication in the Federal Register of the notice of these orders). The Department will notify U.S. Customs and Border Protection to terminate suspension of liquidation and collection of cash deposits on entries of the subject merchandise entered or withdrawn from warehouse on or after July 11, 2010. Entries of subject merchandise prior to the effective date of revocation will continue to be subject to suspension of liquidation and antidumping duty deposit requirements. The Department will complete any pending administrative reviews of these orders.

These five-year sunset reviews and notice are in accordance with section 751(d)(2) of the Act and published pursuant to section 777(i)(1) of the Act.

Dated: May 13, 2011.
Ronald K. Lorentzen,
Deputy Assistant Secretary for Import Administration.

[FR Doc. 2011-12461 Filed 5-19-11; 8:45 am]

BILLING CODE 3510-DS-P